DEPARTMENT OF LABOR

Occupational Safety and Health Administration

[Docket No. ICR-1218-0205 (2006)]

Personal Protective Equipment (PPE) Standards for General Industry; Extension of the Office of Management and Budget's (OMB) Approval of Information Collection (Paperwork) Requirements

AGENCY: Occupational Safety and Health Administration (OSHA), Labor.

ACTION: Request for public comment.

SUMMARY: OSHA solicits public comment concerning its request for an extension of the information collection requirements specified in its standards on PPE for General Industry.

DATES: Comments must be submitted by the following dates:

Hard copy: Your comments must be submitted (postmarked or received) by September 25, 2006.

Fascimile and electronic transmission: Your comments must be received by September 25, 2006.

ADDRESSES: You may submit comments, identified by OSHA Docket No. ICR-1218-0205(2006), by any of the following methods:

Regular mail, express delivery, hand delivery, and messenger service: Submit you comments and attachments to the OSHA Docket Office, Room N-2625, U.S. Department of Labor, 200 Constitution Avenue, NW., Washington, DC 20210; telephone (202) 693-2350 (OSHA's TTY number is (877) 889-5627). OSHA Docket Office and Department of Labor hours are 8:15 a.m. to 4:45 p.m., e.t.

Facsimile: If your comments are 10 pages or fewer, including attachments, you may fax them to the OSHA Docket Office at (202) 693-1648.

Electronic: You may submit coments through the Internet at http://ecomments.osha.gov. Follow instructions on the OSHA Web page for submitting comments.

Docket: For access to the docket to read or download comments or background materials, such as the complete Information Collection Request (ICR) (containing the Supporting Statement, OMB-83-I Form, and attachments), go to OSHA's Web page at http://www.OSHA.gov. In addition, the ICR, comments and submissions are available for inspection and copying at the OSHA Docket Office at the address above. You may also contact Theda Kenney at the below to obtain a copy of the ICR. For additional information on submitting comments, please see the “Public Participation” section in SUPPLEMENTARY INFORMATION.

FOR FURTHER INFORMATION CONTACT: Theda Kenney or Todd Owen, Directorate of Standards and Guidance, OSHA, Room N-3609, 200 Constitution Avenue, NW., Washington, DC 20210; telephone (202) 693-2222.

SUPPLEMENTARY INFORMATION:

I. Background

The Department of Labor, as part of its continuing effort to reduce paperwork and respondent (i.e., employer) burden, conducts a preclearance consultation program to provide the public with an opportunity to comment on proposed and continuing information collection requirements in accordance with the Paperwork Reduction Act of 1995 (44 U.S.C. 3506(c)(2)(A)). This program ensures that information is in the desired format, reporint burden (time and costs) is minimal, collection instruments are clearly understood, and OSHA's estimate of the information collection burden is accurate.

The Occupational Safety and Health Act of 1970 (the OSH Act) (29 U.S.C. 651 et seq.) authorizes information collection by employers as necessary or appropriate for its enforcement or for developing information regarding the causes and prevention of occupational injuries, illnesses, and accidents (29 U.S.C. 657). The OSH Act also requires that OSHA obtain such information with minimum burden upon employers, especially those operating small busineses, and to reduce to the maximum extent feasible unnecessary duplication of efforts in obtaining information (29 U.S.C. 657).

The general industry PPE standards (29 CFR part 1910, subpart I) include several paperwork requirements.¹ The following Describe the information collection requirements:

¹ The Information Collection Request (ICR) does not include burden hours and costs associated with the information collection requirements in the standards on respiratory Protection (29 CFR 1910.134) and Electrical Protective Equipment (29 CFR 1910.137), both of which have been addressed in separate Information collection Requests (ICRs). See OMB Control Nos. 1218-0099 and 1218-0190, respectively.

Hazard Assessment and Verification (29 CFR 1910.132(d)). Paragraph (d)(1) requires that the employer assess work activities to determine whether there are hazards present, or likely to be present, which necessitate the employee's use of PPE. If such hazards are present, or likely to be present, the employer must communicate selection decisions to affected employees and verify that the required occupational hazard assessment has been performed. Paragraph (d)(2) requires that the verification document, which must be identified as a certification of hazard assessment, must contain the following information: occupation, the date(s) of the hazard assessment, and the name of the person performing the hazard assessment.²

² Paragraph (g) of § 1910.132 specifies that the section's hazard assessment (paragraph (d)) and training (paragraph (f)) requirements only apply to PPE for the eyes and face, head, feet and hands.

The hazard assessment assures that potential workplace hazards necessitating PPE use have been identified and that the PPE selected is appropriate for those hazards and the affected employees. The required certification of the hazard assessment verifies that the required hazard assessment was conducted.

Training and Verification (29 CFR 1910.132(f)). Paragraph (f) requires that employers provide training for each employee who is required to wear PPE. Paragraph (f)(3) requires that employers also provide retraining when there is reason to believe that any previously trained employee does not have the understanding and skill to use PPE properly. Circumstances where such retraining is required include changes in the workplace or in the types of PPE used that render prior training obsolete, and inadequacies in the employee's knowledge or use of PPE that indicate the employee had not retained the requisite understanding and skill.

Paragraph (f)(4) requires that employers certify that employees have received and understood the PPE training required in § 1910.132(f). The training certification must include the name of the employee(s) trained, the date of training, and the subject of the certification (i.e., a statement identifying the document as a certification of training in the use of PPE).

The training certification verifies that employees have received the necessary training and know how to properly use PPE. OSHA compliance officers may require employers to disclose the certification records during an Agency inspection.

The part 1910 standards on PPE protection for the eyes and face (§ 1910.133), head (§ 1910.135), feet (§ 1910.136), and hands (§ 1910.138) do not contain any separate information collection requirements.

II. Special Issues for Comment

OSHA has a particular interest in comments on the following issues:

• Whether the proposed information collection requirements are necessary for the proper performance of the Agency's functions, including whether the information is useful;

• The accuracy of OSHA's estimate of the burden (time and costs) of the information collection requirements, including the validity of the methodology and assumptions used;

• The quality, utility, and clarity of the information collected; and

• Ways to minimize the burden on employers who must comply; for example, by using automated or other technological information collection and transmission techniques.

III. Proposed Actions

OSHA is requiring OMB to extend their approval of the collection of information requirements contained in the general industry PPE standards. The Agency is requesting an increase in burden hours for the existing collection of information requirements from 3,169,344 to 3,953,759 (a total increase of 784,415 hours). The Agency will summarize the comments submitted in response to this notice, and will include this summary in its request to OMB.

Type of Review: Extension of currently approved information collection requirement.

Title: Personnel Protective Equipment (PPE) Standards for General Industry (29 CFR part, 1910, subpart I).

OMB Number: 1218-0205.

Affected Public: Business or other for-profits; Federal Governments; State, local or tribal government; Not-for-profit institutions.

Number of Respondents: 3,400,000.

Frequency: On occasion.

Average Time per Response: Varies from one minute (.02 hour) to maintain a training certification record to 29 hours to perform a hazard assessment.

Estimated Total Burden Hours: 3,953,759.

Estimated Cost (Operation and Maintenance): $0.

IV. Public Participation—Submission of Comments on This Notice and Internet Access to Comments and Submissions

You may submit comments and supporting materials in response to this notice by (1) hard copy, (2) FAX transmission (facsimile), or (3) electronically through the OSHA Web page. Because of security-related problems, there may be a significant delay in the receipt of comments by regular mail. Please contact the OSHA Docket Office at (202) 693-2350 (TTY) (877) 889-5627) for information about security procedures concerning the delivery of submissions by express delivery, hand delivery, and courier service.

Comments, submissions, and background documents are available for inspection and copying at the OSHA Docket Office at the above address. Comments and submissions posted on OSHA's Web page are available at http://www.OSHA.gov. Contact the OSHA Docket Office for information about materials not available through the OSHA Web page and for assistance in using the Web page to locate docket submissions.

Electronic copies of this Federal Register notice as well as other relevant documents are available on OSHA's Web page. Since all submissions become public, private information such as social security numbers should not be submitted.

V. Authority and Signature

Edwin G. Foulke, Jr., Assistant Secretary of Labor for Occupational Safety and Health, directed the preparation of this notice. The authority for this notice is the Paperwork Reduction Act of 1995 (44 U.S.C. 3506 et seq.) and Secretary of Labor's Order No. 5-2002 (67 FR 65008).

Signed at Washington, DC, on July 19, 2006.
Edwin G. Foulke, Jr.,
Assistant Secretary of Labor.

[FR Doc. 06-6487 Filed 7-25-06; 8:45 am]

BILLING CODE 4510-26-M